DEPARTMENT OF COMMERCE

National Telecommunications and Information Administration

[Docket No. 181130999-8999-01]

RIN 0660-XC044

Developing a Sustainable Spectrum Strategy for America's Future

AGENCY: National Telecommunications and Information Administration, U.S. Department of Commerce.

ACTION: Notice; request for comments.

SUMMARY: On behalf of the U.S. Secretary of Commerce, the National Telecommunications and Information Administration (NTIA) requests comments from interested parties with regard to development of a comprehensive, long-term national spectrum strategy. NTIA seeks broad input from interested stakeholders, including private industry, academia, civil society, and other experts.

DATES: Comments must be received by 11:59 p.m. Eastern Time on January 22, 2019.

ADDRESSES: Written comments identified by Docket No. 181130999-8999-01 may be submitted by email to spectrum-strategy-comments@ntia.doc.gov. Comments submitted by email should be machine-readable and should not be copy-protected. Written comments also may be submitted by mail to the National Telecommunications and Information Administration, U.S. Department of Commerce, 1401 Constitution Avenue NW, Room 4600, Attn: John Alden, Washington, DC 20230.

FOR FURTHER INFORMATION CONTACT: John Alden, Office of Spectrum Management, National Telecommunications and Information Administration, U.S. Department of Commerce, 1401 Constitution Avenue NW, Room 4600, Washington, DC 20230; telephone: (202) 482-8046; email: jalden@ntia.doc.gov. For media inquiries: Anne Veigle, Director, Office of Public Affairs, National Telecommunications and Information Administration, U.S. Department of Commerce, 1401 Constitution Avenue NW, Room 4897, Washington, DC 20230; telephone: (202) 482-7002; email: press@ntia.doc.gov.

SUPPLEMENTARY INFORMATION:

I. Background

NTIA is requesting comments from interested parties with regard to development of a comprehensive, long-term national spectrum strategy as required by the Presidential Memorandum, Developing a Sustainable Spectrum Strategy for America's Future (Spectrum PM), issued on October 25, 2018.¹ Section 4 of the Spectrum PM requires the Secretary of Commerce, working through NTIA, and in consultation with Office of Management and Budget, the Office of Science and Technology Policy, the Federal Communications Commission (FCC), and other Federal entities to submit a long-term National Spectrum Strategy to the President, through the Director of the National Economic Council and the Assistant to the President for National Security Affairs, within 270 days.² The National Spectrum Strategy is to include legislative, regulatory, or other policy recommendations to:

¹ Memorandum for the Heads of Executive Departments and Agencies, Developing a Sustainable Spectrum Strategy for America's Future, 83 FR 54513 (Oct. 30, 2018), available at https://www.gpo.gov/fdsys/pkg/FR-2018-10-30/pdf/2018-23839.pdf.

² Id. at sec. 4.

(a) Increase spectrum access for all users, including on a shared basis, through transparency of spectrum use and improved cooperation and collaboration between Federal and non-Federal spectrum stakeholders;

(b) Create flexible models for spectrum management, including standards, incentives, and enforcement mechanisms that promote efficient and effective spectrum use, including flexible-use spectrum licenses, while accounting for critical safety and security concerns;

(c) Use ongoing research, development, testing, and evaluation [RDT&E] to develop advanced technologies, innovative spectrum-utilization methods, and spectrum-sharing tools and techniques that increase spectrum access, efficiency, and effectiveness;

(d) Build a secure, automated capability to facilitate assessments of spectrum use and expedite coordination of shared access among Federal and non-Federal spectrum stakeholders; and

(e) Improve the global competitiveness of United States terrestrial and space-related industries and augment the mission capabilities of Federal entities through spectrum policies, domestic regulations, and leadership in international forums.³

³ Id.

On June 18, 2018, the President issued Space Policy Directive-3, National Space Traffic Management Policy (SPD-3), which sets forth principles, goals, and guidelines for the National Space Traffic Management Policy.⁴ NTIA believes SPD-3 shares many of the goals of the Spectrum PM with respect to the development of the administration's comprehensive and sustainable approach to our national spectrum policy. For example, one of the goals of SPD-3 is to:

⁴ Memorandum for Heads for the Vice President, Heads of Executive Departments and Agencies, Space Policy Directive-3, National Space Traffic Management Policy, 83 FR 28969 (Jun. 21, 2018), available at https://www.gpo.gov/fdsys/pkg/FR-2018-06-21/pdf/2018-13521.pdf.

[p]revent unintentional radio frequency (RF) interference. Growing orbital congestion is increasing the risk to U.S. space assets from unintentional RF interference. The United States should continue to improve policies, processes, and technologies for spectrum use (including allocations and licensing) to address these challenges and ensure appropriate spectrum use for current and future operations.⁵

⁵ Id. at sec. 4(g).

Furthermore, SPD-3 provides that U.S. Government efforts in Space Traffic Management (STM) should address the following spectrum management considerations:

• Where appropriate, verify consistency between policy and existing national and international regulations and goals regarding global access to, and operation in, the RF spectrum for space services;

• Investigate the advantages of addressing spectrum in conjunction with the development of STM systems, standards, and best practices;

• Promote flexible spectrum use and investigate emerging technologies for potential use by space systems; and

• Ensure spectrum-dependent STM components, such as inter-satellite safety communications and active debris removal systems, can successfully access the required spectrum necessary to their missions.⁶

⁶ Id. at sec. 5(c)(2).

II. Request for Comments

This Request for Comments (RFC) solicits input to assist the Secretary of Commerce, through NTIA, in developing a National Spectrum Strategy. We solicit recommended actions as well as information that can improve NTIA's understanding more generally in areas including expanding spectrum access, improving spectrum sharing, enhancing spectrum management, utilizing ongoing research and development activities, fostering global competitiveness, protecting U.S. space assets from RF interference, and augmenting the mission capability of Federal entities.

NTIA invites comment on the full range of issues raised in this RFC. NTIA also seeks comment on the following specific questions:

1. In what ways could the predictability of spectrum access for all users be improved?

2. To what extent would the introduction of automation facilitate assessments of spectrum use and expedite the coordination of shared access, especially among Federal and non-Federal spectrum stakeholders?

3. What is the practical extent of applying standards, incentives, and enforcement mechanisms to promote efficient and effective spectrum use?

4. How might investment in RDT&E improve spectrum-utilization methods, and spectrum-sharing tools and techniques?

5. What are the risks, if any, to the global competitiveness of U.S. industries associated with spectrum management and policy actions?

6. How could a spectrum management paradigm be structured such that it satisfies the needs of commercial interests while preserving the spectrum access necessary to satisfy the mission requirements and operations of Federal entities?

7. What are the likely future needs of spectrum users, both terrestrially and for space-based applications, within the next 15 years? In particular, are present allocations of spectrum sufficient to provide next generation services like Fifth Generation (5G) cellular services and emerging space-based applications? For commenters who assert that existing allocations are insufficient, NTIA is interested in understanding better the amount of spectrum presently available to provide particular services (or similar services) and estimates of the amount of additional spectrum in each frequency band that the commenter believes is needed.

Instructions for Commenters: Commenters are encouraged to address any or all of the questions in this RFC. Comments that contain references to studies, research, and other empirical data that are not widely published should include copies of the referenced materials with the submitted comments. Comments submitted by email should be machine-readable and should not be copy-protected. Comments submitted by mail may be in hard copy (paper) or electronic (on CD-ROM or disk). Commenters should include the name of the person or organization filing the comment, as well as a page number on each page of their submissions. All comments received are a part of the public record and generally will be posted on the NTIA website, https://www.ntia.doc.gov, without change. All personal identifying information (for example, name, address) voluntarily submitted by the commenter may be publicly accessible. Do not submit confidential business information or otherwise sensitive or protected information.

Dated: December 18, 2018.
David J. Redl,
Assistant Secretary for Communications and Information, National Telecommunications and Information Administration.

[FR Doc. 2018-27690 Filed 12-20-18; 8:45 am]

BILLING CODE 3510-60-P